DEPARTMENT OF COMMERCE

National Oceanic and Atmospheric Administration

RIN 0649-XE636

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Data Collection Technical Committee.

DATES: The meeting will convene Monday, June 6, 2016, from 8:30 a.m.-5 p.m.

ADDRESSES: The meeting will take place at the Council's office.

Council address: Gulf of Mexico Fishery Management Council, 2203 N. Lois Avenue, Suite 1100, Tampa, FL 33607; telephone: (813) 348-1630.

FOR FURTHER INFORMATION CONTACT: Dr. John Froeschke, Fishery Biologist-Statistician, Gulf of Mexico Fishery Management Council; john.froeschke@gulfcouncil.org; telephone: (813) 348-1630.

SUPPLEMENTARY INFORMATION: The items of discussion on the agenda are as follows:

The Data Collection Technical Committee will meet to discuss options to implement electronic reporting of fisheries data in the Gulf of Mexico for-hire sector and provide recommendations to the Gulf Council at the June 2016 Council meeting. The objectives are to improve timeliness and data quality of fisheries data from the federal for-hire sector that will be used to support fisheries science and management. The Committee will receive an overview of the electronic reporting program for federally permitted headboats and a presentation describing decision points (e.g., technology used, reporting frequency and data to be collected) in a potential program for federally permitted Gulf of Mexico for-hire vessels. The committee is expected to discuss and provide feedback on the decision points raised in the presentations and provide recommendations based upon the strengths, limitations, and value of the various electronic reporting program options under consideration.

Meeting Adjourns

The Agenda is subject to change, and the latest version along with other meeting materials will be posted on the Council's file server. To access the file server, the URL is https://public.gulfcouncil.org:5001/webman/index.cgi, or go to the Council's Web site and click on the File Server link in the lower left of the Council Web site (http://www.gulfcouncil.org). The username and password are both “gulfguest”. Click on the “Library Folder”, then scroll down to “Data Collection Technical Committee”.

The meeting will be webcast over the internet. A link to the webcast will be available on the Council's Web site, http://www.gulfcouncil.org.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: May 18, 2016.
Tracey L. Thompson,
Acting Deputy Director, Office of Sustainable Fisheries, National Marine Fisheries Service.

[FR Doc. 2016-12040 Filed 5-20-16; 8:45 am]

BILLING CODE 3510-22-P